DEPARTMENT OF ENERGY

Federal Energy Regulatory Commission

Notice of Membership of Performance Review Board for Senior Executives (PRB)

The Federal Energy Regulatory Commission hereby provides notice of the membership of its Performance Review Board (PRB) for the Commission's Senior Executive Service (SES) members. The function of this board is to make recommendations relating to the performance of senior executives in the Commission. This action is undertaken in accordance with Title 5, U.S.C. Section 4314(c)(4).

The Commission's PRB will remove the following members:

Larry D. Gasteiger

Ann F. Miles

Max J. Minzner

Jamie L. Simler

The Commission's PRB will add the following members:

Anna V. Cochrane

David L. Morenoff

Terry L. Turpin

Steven T. Wellner

Dated: July 25, 2017.
Kimberly D. Bose,
Secretary.

[FR Doc. 2017-16077 Filed 7-31-17; 8:45 am]

BILLING CODE 6717-01-P